DEPARTMENT OF VETERANS AFFAIRS

Nursing Research Initiative Subcommittee of the Scientific Review and Evaluation Board for Health Services Research and Development Service; Notice of Meeting

The Department of Veterans Affairs, Veterans Health Administration, gives notice under Pub. L. 92-463, that a meeting of the Nursing Research Initiative Subcommittee of the Scientific Review and Evaluation Board for Health Services Research and Development Service will be held at the Madison Hotel, 15th Street, NW., Washington, DC, on Tuesday, September 11, 2001, from 9:00 a.m. until 5:00 p.m. The purpose of the meeting is to review nursing research applications that identify effective methods for improving, maintaining, and/or preventing decline in the functional status of patients; develop and test models that integrate patient care delivery and enhance health outcomes; and improve patient care. Applications are reviewed for scientific and technical merit. Recommendations regarding funding are prepared for the Chief Research and Development Officer.

This meeting will be open to the public at the start of the September 11 session for approximately one-half hour to cover administrative matters and to discuss the general status of the program. The closed portion of the meeting involves discussion, examination, reference to, and oral review of staff and consultant critiques of research protocols and similar documents. During this portion of the meeting, discussion and recommendations will include qualifications of the personnel conducting the studies (the disclosure of which would constitute a clearly unwarranted invasion of personal privacy), as well as research information (the premature disclosure of which would be likely to frustrate significantly implementation of proposed agency action regarding such research projects). As provided by the subsection 10(d) of Pub. L. 92-463, as amended by Pub. L. 94-409, closing portions of these meetings is in accordance with 5 U.S.C. 552b(c)(6) and (9)(B).

Those who plan to attend the open session should contact Ms. Martha R. Bryan, Review Program Manager, Health Services Research and Development Service (124F), Department of Veterans Affairs, 1400 I Street, NW., Suite 780, Washington, DC, prior to the meeting. For further information, call (202) 408-3661.

Dated: August 31, 2001.
By Direction of the Secretary.
Nora E. Egan,
Committee Management Officer.

[FR Doc. 01-22696 Filed 9-10-01; 8:45 am]

BILLING CODE 8320-01-M